DEPARTMENT OF COMMERCE

National Oceanic and Atmospheric Administration

RIN 0648-XA028

Gulf of Mexico Fishery Management Council; Public Meeting

AGENCY: National Marine Fisheries Service (NMFS), National Oceanic and Atmospheric Administration (NOAA), Commerce.

ACTION: Notice of a public meeting.

SUMMARY: The Gulf of Mexico Fishery Management Council in conjunction with the Gulf & South Atlantic Fisheries Foundation will convene a Smalltooth Sawfish workshop.

DATES: The meeting will convene at 1 p.m. on Wednesday, December 1, 2010 and conclude by 12 p.m. on Thursday, December 2, 2010.

ADDRESSES: The meeting will be held at the Sheraton Suites, 4400 West Cypress Street, Tampa, FL 33607; telephone: (813) 873-8675.

Council address: Gulf of Mexico Fishery Management Council, 2203 N. Lois Avenue, Suite 1100, Tampa, FL 33607.

FOR FURTHER INFORMATION CONTACT: Mr. Frank Helies, Program Director, Gulf & South Atlantic Fisheries Foundation; telephone: (813) 286-8390.

SUPPLEMENTARY INFORMATION: A two-day workshop will be held to bring together representatives from state agencies, NOAA Fisheries, research universities, industry and non-industry representatives to present the latest information and research on smalltooth sawfish. Specific topics to be addressed at this workshop include but are not limited to: (1) Present new information or conclusions on the status of the sawfish populations; (2) Present information and evaluate details of observed interactions; (3) Discuss the assumed post-release mortality rate for sawfish released from shrimp trawls based on recent observations; (4) Present information and consider potential efficacy of bycatch reduction technologies and strategies to minimize sawfish bycatch and catch mortality; (5) Present information and consider implications of shrimp fishing effort reduction; and (6) Form feasible options for minimizing sawfish bycatch and bycatch mortality to the extent practicable.

Copies of the agenda and other related materials can be obtained by calling (813) 286-8390.

Although other non-emergency issues not on the workshop agenda may come for discussion, in accordance with the Magnuson-Stevens Fishery Conservation and Management Act, those issues may not be the subject of formal action during this meeting. During the workshop, actions will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Trish Kennedy at the Council (see ADDRESSES) at least 5 working days prior to the meeting.

Dated: November 8, 2010.
Tracey L. Thompson,
Acting Director, Office of Sustainable Fisheries, National Marine Fisheries Service.

[FR Doc. 2010-28446 Filed 11-10-10; 8:45 am]

BILLING CODE 3510-22-P